OFFICE OF THE DIRECTOR OF NATIONAL INTELLIGENCE

32 CFR Part 1704

Mandatory Declassification Review Program

AGENCY: Office of the Director of National Intelligence.

ACTION: Direct final rule; withdrawal.

SUMMARY: The Office of the Director of National Intelligence (ODNI) is withdrawing a direct final rule that would have provided procedures for members of the public to request from ODNI a Mandatory Declassification Review (MDR) of information classified under the provisions of Executive Order 13526 or predecessor orders such that the agency may retrieve it with reasonable effort.

DATES: As of April 22, 2016, the direct final rule published on February 26, 2016, at 81 FR 9768, is withdrawn.

FOR FURTHER INFORMATION CONTACT: Jennifer L. Hudson, 703-874-8085.

SUPPLEMENTARY INFORMATION: On February 26, 2016, the ODNI published a direct final rule providing procedures for members of the public to request from ODNI an MDR of information classified under the provisions of Executive Order 13526 or predecessor orders such that the agency may retrieve it with reasonable effort. The purpose of this rule was to assist in implementing specific sections of Executive Order 13526 concerning the MDR. In response to this direct final rule, ODNI received comments regarding the fee provisions stated in Section 1704.8 and the recommendation that those provisions be withdrawn and replaced with fee provisions comparable to those in ODNI's Freedom of Information Act program (32 CFR 1700.6). ODNI agrees and therefore is withdrawing its direct final rule. It will simultaneously issue a new direct final rule and a proposed rule reflecting that recommendation.

Dated: April 12, 2016.
Mark W. Ewing,
Chief Management Officer.

[FR Doc. 2016-09253 Filed 4-21-16; 8:45 am]

BILLING CODE 9500-01-P